ENVIRONMENTAL PROTECTION AGENCY

[EPA-HQ-OAR-2010-0133; FRL-9907-03-OEI]

Information Collection Request Submitted to OMB for Review and Approval; Comment Request; Regulation of Fuels and Fuel Additives: 2011 Renewable Fuel Standards—Petition for International Aggregate Compliance Approach

AGENCY: Environmental Protection Agency (EPA).

ACTION: Notice.

SUMMARY: The Environmental Protection Agency has submitted an information collection request (ICR), “Regulation of Fuels and Fuel Additives: 2011 Renewable Fuel Standards—Petition for International Aggregate Compliance Approach” (EPA ICR No. 2398.03, OMB Control No. 2060-0655) to the Office of Management and Budget (OMB) for review and approval in accordance with the Paperwork Reduction Act (44 U.S.C. 3501 et seq.). This is a “proposed extension of the ICR, which is currently approved through February 28, 2014. Public comments were previously requested via the Federal Register (78 FR 30428) on December 20, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 31, 2014.

ADDRESSES: Submit your comments, referencing Docket ID Number EPA-HQ-OAR-2010-0133, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017 fax number: 202-565-2085 email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This regulation has a provision that EPA will use to authorize renewable fuel producers using certain foreign-grown feedstocks to use an aggregate approach to comply with the renewable biomass verification provisions, akin to that applicable to producers using crops and crop residue grown in the United States. For this authorization, foreign based entities may petition EPA for approval of the aggregate compliance approach for specified renewable fuel feedstocks either in a foreign country as a whole or in a specified geographical area. This petition request for the aggregate compliance approach for foreign-grown crops and crop residue is voluntary, though, if approved by EPA, will offer the benefit that certain renewable biomass produced in a foreign country or geographical area can be counted as feedstock to make renewable fuel for credit under the Renewable Fuel Standard (RFS2) program.

Form Numbers: None

Respondents/affected entities: 15.

Respondent's obligation to respond: Voluntary.

Estimated number of respondents: 15 (total).

Frequency of response: On occasion.

Total estimated burden: 600 hours (per year). Burden is defined at 5 CFR 1320.03(b).

Total estimated cost: $ 68,400 (per year), includes $0 annualized capital or operation & maintenance costs.

Changes in Estimates: There is an increase of hours in the total estimated respondent burden compared with the ICR currently approved by OMB. The total hours increased by 400 due to a more accurate account of hours needed for foreign producers to complete the petition for approval that will offer the benefit that certain renewable biomass produced in a foreign country or geographical area can be counted as feedstock to make renewable fuel for credit under the Renewable Fuel Standard (RFS2). This change in burden hours increased the cost of this collection by $54,204 per year. The respondent universe and responses remained the same in this collection.

Richard T. Westlund,
Acting Director, Collection Strategies Division.

[FR Doc. 2014-04275 Filed 2-26-14; 8:45 am]

BILLING CODE 6560-50-P